FEDERAL LABOR RELATIONS AUTHORITY

5 CFR Part 2429

Changes in Filing Address and Procedures

AGENCY: Federal Labor Relations Authority.

ACTION: Final rule; technical amendments.

SUMMARY: The Federal Labor Relations Authority (Authority) is amending sections of part 2429 of its Regulations. The amendments, described below, make technical changes to the regulations regarding the address to which filings must be sent and the number of copies to be filed.

DATES: Effective Date: May 13, 2008.

FOR FURTHER INFORMATION CONTACT: William R. Tobey, Acting Executive Director, (202) 218-7999.

SUPPLEMENTARY INFORMATION: The Federal Labor Relations Authority (Authority) is making two technical changes to part 2429 of the Authority's Regulations, 5 CFR part 2429. First, the filing address located in § 2429.24(a) is changed to reflect the new name of the office with which filings must be made. Second, § 2429.25 is amended to require five legible copies to be provided with the filing of the original, rather than the current requirement of four legible copies.

Publication of this document constitutes final agency action on these changes under the Administrative Procedure Act (5 U.S.C. 553). Notice and public procedures are unnecessary because the Authority is making only non-substantive technical changes.

Waiver of Proposed Rulemaking

The Authority for good cause finds that prior notice and opportunity for comment on these changes are unnecessary pursuant to 5 U.S.C. 553(b)(3)(B) because the amendments to the affected sections are merely technical in nature and propose no substantive changes regarding which public comment could be solicited.

Waiver of 30-Day Delayed Effective Date Requirement

This Final Rule is made effective upon publication in the Federal Register. The Authority finds that good cause exists for the final rule to be exempt from the 30-day delayed effective date requirement of 5 U.S.C. 553(d) because a delay in implementation of the new filing requirements would be contrary to the public interest.

Regulatory Flexibility Act Certification

Pursuant to section 605(b) of the Regulatory Flexibility Act, 5 U.S.C. 605(b), I have determined that this regulation, as amended, will not have a significant impact on a substantial number of small entities, because this rule only applies to federal employees, federal agencies, and labor organizations representing federal employees.

Unfunded Mandates Reform Act of 1995

This rule change will not result in the expenditure by state, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This action is not a major rule as defined by section 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Paperwork Reduction Act of 1995

The amended regulations contain no additional information collection or recordkeeping requirements under the Paperwork Reduction Act of 1995, 44 U.S.C. 3501, et seq.

List of Subjects in 5 CFR Part 2429

Administrative practice and procedure, Government employees, Labor management relations.

For these reasons, the Authority amends 5 CFR part 2429 as follows:

PART 2429—MISCELLANEOUS AND GENERAL REQUIREMENTS

1. The authority cited for part 2429 continues to read as follows:

Authority: 5 U.S.C. 7134; 2429.18 also issued under 28 U.S.C. 2112(a).

2. Section 2429.24(a) is revised to read as follows:

§ 2429.24 Place and method of filing; acknowledgement.

(a) All documents filed or required to be filed with the Authority pursuant to this subchapter shall be filed with the Chief, Case Intake and Publication, Office of Case Adjudication, Federal Labor Relations Authority, Docket Room, Suite 200, 1400 K Street, NW., Washington, DC 20424-0001 (telephone: (202) 218-7740) between 9 a.m. and 5 p.m., Monday through Friday (except Federal holidays). Documents hand-delivered for filing must be presented in the Docket Room not later than 5 p.m. to be accepted for filing on that day.

* * * * *

3. Section 2429.25 is revised to read as follows:

§ 2429.25 Number of copies and paper size.

Unless otherwise provided by the Authority or the General Counsel, or their designated representatives, as appropriate, or under this subchapter, and with the exception of any prescribed forms, any document or paper filed with the Authority, General Counsel, Administrative Law Judge, Regional Director, or Hearing Officer, as appropriate, under this subchapter, together with any enclosure filed therewith, shall be submitted on 8½ by 11 inch size paper, using normal margins and font sizes, The original and five (5) legible copies of each document or paper must be submitted. Where facsimile filing is permitted pursuant to § 2429.24(e), one (1) legible copy, capable of reproduction, shall be sufficient. A clean copy capable of being used as an original for purposes such as further reproduction may be substituted for the original.

Dated: May 7, 2008.
William R. Tobey,
Acting Executive Director, Federal Labor Relations Authority.

[FR Doc. E8-10598 Filed 5-12-08; 8:45 am]

BILLING CODE 6727-01-P